DEPARTMENT OF ENERGY

Environmental Management Site-Specific Advisory Board, Savannah River

AGENCY: Department of Energy.

ACTION: Notice of open meeting.

SUMMARY: This notice announces a meeting of the Environmental Management Site-Specific Advisory Board (EM SSAB), Savannah River. The Federal Advisory Committee Act (Pub. L. 92-463, 86 Stat.770) requires that public notice of these meetings be announced in the Federal Register.

DATES: Friday, September 10, 2004; 8:30 a.m.-5 p.m. Saturday, September 11, 2004; 8:30 a.m.-12 noon

ADDRESSES: Holiday Inn, One Center Street, Folly Beach, SC 29439.

FOR FURTHER INFORMATION CONTACT: Gerri Flemming, Closure Project Office, Department of Energy Savannah River Operations Office, P.O. Box A, Aiken, SC, 29802; Phone: (803) 952-7886.

SUPPLEMENTARY INFORMATION: Purpose of the Board: The purpose of the Board is to make recommendations to DOE in the areas of environmental restoration, waste management, and related activities.

Tentative Agendas

Friday, September 10, 2004

8:30 a.m.—Basics of Radiation

11 a.m.—Nuclear Materials 101

Noon—Lunch

1 p.m.—Nuclear Materials 101 (continued)

2:15 p.m.—Waste 101

3:45 p.m.—Hazard, Risk and Safety at SRS

5 p.m.—Adjourn

Saturday, September 11, 2004

8:30 a.m.—Overview of DOE Organization

9 a.m.—Overview of Cleanup Decision Making

12:15 p.m.—Adjourn

A final agenda will be available at the meeting Friday, September 10, 2004.

Public Participation: The meeting is open to the public. Written statements may be filed with the Board either before or after the meeting. Individuals who wish to make the oral statements pertaining to agenda items should contact Gerri Flemming's office at the address or telephone listed above. Requests must be received five days prior to the meeting and reasonable provision will be made to include the presentation in the agenda. The Designated Federal Officer is empowered to conduct the meeting in a fashion that will facilitate the orderly conduct business. Each individual wishing to make public comment will be provided equal time to present their comments.

Minutes: The minutes of this meeting will be available for public review and copying at the Freedom of Information Public Reading Room, 1E-190, Forrestal Building, 1000 Independence Avenue, SW., Washington, DC, 20585 between 9 a.m. and 4 p.m., Monday through Friday, except Federal holidays. Minutes will also be available by writing to Gerri Flemming, Department of Energy Savannah River Operations Office, P.O. Box A, Aiken, SC, 29802, or by calling her at (803) 952-7886.

Issued at Washington, DC on August 11, 2004.
Rachel Samuel,
Deputy Advisory Committee Management Officer.

[FR Doc. 04-18668 Filed 8-13-04; 8:45 am]

BILLING CODE 6450-01-P